NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 2, 2007 (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001. E-mail: requestschedule@nara.gov. FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication)

1. Department of the Air Force, Agency-wide (N1-AFU-06-3, 2 items, 2 temporary items). Forms, correspondence, reports, and other records relating to inter-service transfer of officers and recall of officers to active duty.

2. Department of the Army, Agency-wide (N1-AU-07-5, 3 items, 1 temporary item). System outputs and reports associated with an electronic information system used to track basic human resources data on contractors deployed with U.S. forces. Data includes but is not limited to names, social security numbers, addresses, assignments, locations, and names of next of kin. Proposed for permanent retention are the master file and system documentation.

3. Department of Defense, Office of Inspector General (N1-509-07-1, 9 items, 6 temporary items). Records of the General Counsel including administrative hearings, legal proceedings, opinions on proposed directives, responses to requests for document searches, and working papers maintained by individual attorneys. Proposed for permanent retention are office functional files, historical legislative files, and policy files.

4. Department of Defense, National Geospatial-Intelligence Agency (N1-537-03-10, 8 items, 8 temporary items). Copies of gravity, geodesy, gravimetry, and isostasy files maintained outside the primary recordkeeping systems. Also included are bibliographic index files. This schedule authorizes the agency to apply the proposed disposition instructions to any recordkeeping medium.

5. Department of Homeland Security, Office of Public Affairs (N1-563-07-3, 6 items, 2 temporary items). Background research materials accumulated by the history office. Proposed for permanent retention are historical collection files documenting the decisions and policies of the Department's senior leadership; oral history recordings, transcripts, and finding aids; and program management files. This schedule authorizes the agency to apply the proposed disposition instructions to any recordkeeping medium.

6. Department of Homeland Security, Transportation Security Administration (N1-560-07-1, 3 items, 3 temporary items). Authorization forms granting overnight guests at airport hotels access to commercial establishments beyond airport screening checkpoints. This schedule authorizes the agency to apply the proposed disposition instructions to any recordkeeping medium.

7. Department of the Interior, Office of the Secretary (N1-48-07-4, 82 items, 58 temporary items). Records of the Office of Hearings and Appeals, including monthly and quarterly caseload reports, duplicative litigation files, docketing files, electronic docketing system, system input files, record return cards and other records. Proposed for permanent retention are recordkeeping copies of program case files, decision files, appeals reading files and hearings reading files.

8. Department of the Interior, Bureau of Reclamation (N1-115-07-1, 19 items, 18 temporary items). Records relating to administrative or mission-related functions, including administration, environmental monitoring, financial activities, law enforcement, personnel matters, public affairs, property management, research and development, and water reclamation. Proposed for permanent retention are case files relating to fish and wildlife management. This schedule authorizes the agency to apply the proposed disposition instructions to any recordkeeping medium.

9. Department of Justice, Civil Division (N1-60-07-1, 5 items, 2 temporary items). Miscellaneous general file reference copies of enclosures for Class 9, war matters. Proposed for permanent retention are case files relating to Executive Branch Emergency Powers and Presidential War Powers (1930-1949) and enclosures relating to World War I Alien Property matters.

10. Department of Justice, Federal Bureau of Investigation (N1-65-06-11, 3 items, 3 temporary items). Inputs, master file, and system documentation for a jewelry and gem database which tracks stolen jewelry.

11. Department of Justice, Federal Bureau of Investigation (N1-65-06-12, 4 items, 1 temporary item). Database used to track requests for records submitted by members of the Joint Intelligence Committee. Proposed for permanent retention are redacted and un-redacted paper and electronic versions of records and the indexes to the records used by the Joint Intelligence Committee Inquiry review to address questions related to the September 11, 2001, terrorist attacks.

12. Department of Transportation, Federal Railroad Administration (N1-399-07-7, 3 items, 2 temporary items). Records accumulated within the Office of Administrator and Deputy Administrator including copies of speeches and testimonies. Proposed for permanent retention are recordkeeping copies of speeches and testimonies of the Administrator and Deputy Administrator. This schedule authorizes the agency to apply the proposed disposition instructions to any recordkeeping medium.

13. Department of the Treasury, Bureau of the Public Debt (N1-53-06-8, 18 items, 16 temporary items). Records relating to procedures for federal investments, state and local government investments, and Treasury loans receivables. Proposed for permanent retention are historical records relating to interest rates and borrowing for government investments.

14. Department of Veterans Affairs, Veterans Health Administration (N1-15-07-1, 1 item, 1 temporary item). Echocardiogram images captured on video cassette tapes. A written report is filed in the patient folder.

15. Department of Veterans Affairs, Veterans Health Administration (N1-15-07-2, 1 item, 1 temporary item). Emergency room registers for agency medical care facilities. This schedule authorizes the agency to apply the proposed disposition instructions to any recordkeeping medium.

16. Environmental Protection Agency, Agency-wide (N1-412-07-03, 1 item, 1 temporary item). Records relating to the implementation of the post-award monitoring, evaluation, and oversight of grants and other assistance agreements. Included are correspondence, reports, policies and procedures, office-specific plans, and other documentation. This schedule authorizes the agency to apply the proposed disposition instructions to any recordkeeping medium.

17. Environmental Protection Agency, Headquarters (N1-412-07-10, 2 items, 2 temporary items). This schedule authorizes the agency to apply the existing disposition instructions to records series regardless of the recordkeeping medium. Records include communications and distribution strategy files, including plans, publications, and reports; and regional oversight and coordination files, including implementation reports, inspections, correspondence, reviews, and related records. Paper recordkeeping copies of these files were previously approved for disposal.

Dated: May 25, 2007.
Michael J. Kurtz,
Assistant Archivist for Records Services—Washington, DC.

[FR Doc. E7-10573 Filed 5-31-07; 8:45 am]

BILLING CODE 7515-01-P